DEPARTMENT OF DEFENSE

Department of the Army

[Docket ID: USA-2023-HQ-0006]

Submission for OMB Review; Comment Request

AGENCY: U.S. Army Corps of Engineers, Department of Defense (DoD).

ACTION: 30-Day information collection notice.

SUMMARY: The DoD has submitted to the Office of Management and Budget (OMB) for clearance the following proposal for collection of information under the provisions of the Paperwork Reduction Act.

DATES: Consideration will be given to all comments received by July 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Red River Navigation Transportation Rate Survey; OMB Control Number 0710-RRNS.

Type of Request: New.

Number of Respondents: 100.

Responses per Respondent: 1.

Annual Responses: 100.

Average Burden per Response: 60 minutes.

Annual Burden Hours: 100.

Needs and Uses: The U.S. Army Corps of Engineers (USACE) operates and maintains much of the nation's inland navigation infrastructure of locks, dams, and channels. Inland navigation improvement studies conducted by the Corps typically use surveys of shippers, carriers, and others to estimate the impacts on proposed waterway traffic of alternative capital and operations and maintenance investment strategies. The data are used to estimate, among other things, alternative mode cost, shipper response to changes in waterway transportation cost and reliability. This information is used in planning studies for evaluated of projected benefits associated with various plans. The USACE Tulsa District (SWT) and the Red River Waterway Commission request approval of a survey instrument that collects information from business owners to analyze potential benefits associated with a proposed navigation channel along the Red River from Denison Dam to Index, AR. The survey will assist in analyzing how businesses in the region currently transport their commodities and how the option of a navigable waterway would affect these movements. Respondents will be businesses in the study area that could use the proposed navigation channel. Respondents will be identified based on analysis of data from the Surface Transportation Board and with the assistance of the Red River Valley Association, which has numerous contacts with regional business and industry groups. These businesses will be selected based on primary types and volume of commodities shipped and surveys will be provided to respondents with the opportunity to respond. SWT will conduct follow-up phone calls if necessary. Surveys will be conducted using telephone and in-person interviews, as well as via an online survey platform. The Red River Valley Association will assist in garnering industry support for completion of the survey. Information from the questionnaire items for the collection of planning data is needed to formulate and evaluate alternative water resources development plans in accordance with the Principles and Guidelines for Water Related Land Resources Implementation Studies, promulgated by the U.S. Water Resources Council, 1983, which specifically identifies interviews with shippers, carriers and port officials as well as commodity consultants and experts to; identify commodity types, study area, commodity flow, estimate transportation cost and forecast waterway use. In the Corps of Engineers Engineering Regulation 1105-2-100, “Planning Guidance Notebook,” benefits are defined as transportation cost reduction benefits, including shift of mode and shift of origin-destination and new movement benefits. Failure to gather this information would result in Corps studies relying on incomplete or dated information regarding the cost and use of the navigation systems and the impacts of proposed capital improvements.

Affected Public: Business or other for-profit.

Frequency: Once.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 5, 2023.
Aaron T. Siegel,
Alternate OSD Federal Register Liaison Officer, Department of Defense.

[FR Doc. 2023-12645 Filed 6-12-23; 8:45 am]

BILLING CODE 5001-06-P